FEDERAL COMMUNICATIONS COMMISSION

47 CFR Part 54

[CC Docket No. 96-45; FCC 00-332]

Federal-State Joint Board on Universal Service: Promoting Deployment and Subscribership in Unserved and Underserved Areas, Including Tribal and Insular Areas

AGENCY: Federal Communications Commission.

ACTION: Final rule.

SUMMARY: In this document, the Commission stays, on its own motion, the implementation of recently adopted federal Lifeline and Link Up assistance rule amendments only to the extent that they apply to qualifying low-income consumers living near reservations.

DATES: Effective September 5, 2000.

FOR FURTHER INFORMATION CONTACT: Paul Garnett, Attorney, Common Carrier Bureau, Accounting Policy Division, (202) 418-7400.

SUPPLEMENTARY INFORMATION: This is a summary of the Commission's Order and Further Notice of Proposed Rulemaking in CC Docket No. 96-45 released on August 31, 2000. The full text of this document is available for public inspection during regular business hours in the FCC Reference Center, Room CY-A257, 445 Twelfth Street, S.W., Washington, D.C. 20554.

I. Introduction

1. In this Order, we stay, on our own motion, the implementation of recently adopted federal Lifeline and Link Up assistance rule amendments only to the extent that they apply to qualifying low-income consumers living near reservations. We emphasize that this Order does not affect the implementation of the enhanced Lifeline and Link Up support for qualifying low-income consumers living on reservations. Those rules are unaffected and became effective on schedule on September 5, 2000, as directed by the Commission. Finally, as described in greater detail below, we extend until September 22, 2000, the date by which carriers may file data in order to receive support during the calendar year 2000 for enhanced Lifeline and Link Up services provided during the fourth quarter 2000.

II. Discussion

2. Following the adoption of the definition of “tribal lands” in the Twelfth Report and Order, 65 FR 47941 (August 4, 2000), we became aware that the term “near reservation,” as it is currently defined by the BIA, may include wide geographic areas that do not possess the characteristics that warranted the targeting of enhanced Lifeline and Link Up support to reservations, such as geographic isolation, high rates of poverty, and low telephone subscribership. Such an outcome may not further our goal, as described in the Twelfth Report and Order, of increasing telecommunications deployment and subscribership in the most historically isolated and underserved regions of our Nation. Therefore, on our own motion we stay the implementation of the above-described Lifeline and Link Up assistance rule amendments to the extent that they apply to qualifying low-income consumers located “near reservations,” as that phrase is defined in section 20.1(r) of the BIA regulations. A notation is added to § 54.400(e) of the Commission's rules stating that we have stayed the implementation of enhanced Lifeline and Link Up support for eligible residents of tribal lands to the extent that such support applies to qualifying low-income consumers living “near” reservations. We do not stay the application of enhanced Lifeline and Link Up programs to low-income individuals located on “reservations,” including on lands conveyed pursuant to the Alaska Native Claims Settlement Act.

3. In the Twelfth Report and Order, we directed eligible carriers, interested in receiving enhanced Lifeline and Link Up support in the calendar year 2000 for services provided in the fourth quarter 2000, to submit to the Universal Service Administrative Company (USAC) by September 1, 2000, a letter from a corporate officer of the carrier containing detailed information and certifications regarding their provision of services to qualifying low-income consumers. In this Order, we extend until September 22, 2000, the date by which carriers may file data regarding their provision of eligible services to qualifying low-income consumers living on reservations, as defined by the BIA.

III. Ordering Clauses

4. Pursuant to the authority contained in sections 1-4, 201-205, 254, 303(r), and 403 of the Communications Act of 1934, as amended, and § 1.3 and § 1.429(k) of the Commission's rules, this Order is adopted.

5. Pursuant to sections 1 and 4(i) of the Communications Act, and § 1.3 and § 1.429(k) of the Commission's rules, the application of enhanced Lifeline and Link Up programs to qualified low-income consumers living near reservations is stayed pending further Commission action.

6. This order is effective upon release September 5, 2000.

7. The Commission's Consumer Information Bureau, Reference Information Center, shall send a copy of this Order, to the Chief Counsel for Advocacy of the Small Business Administration.

List of Subjects in 47 CFR Part 54

Reporting and recordkeeping requirements, Telecommunications, Telephone.

Federal Communications Commission.
Magalie Roman Salas,
Secretary.

Rule Changes

For the reasons set forth in the preamble, 47 CFR part 54 is amended as follows:

1. The authority citation for part 54 continues to read as follows:

Authority: 47 U.S.C. 1, 4(i), 201, 205, 214, and 254 unless otherwise noted.

2. A note is added to 47 CFR 54.400(e) to read as follows:

§ 54.400 Terms and Definitions.

* * * * *

(e) * * *

Note to paragraph (e): This paragraph (e) is stayed to the extent that it applies to qualifying low-income consumers living “near reservations” as that phrase is defined in 25 CFR 20.1(r).

[FR Doc. 00-25220 Filed 9-29-00; 8:45 am]

BILLING CODE 6712-01-U